INTERNATIONAL TRADE COMMISSION

[Investigation 332-435]

Tools, Dies, and Industrial Molds: Competitive Conditions in the United States and Selected Foreign Markets

AGENCY: United States International Trade Commission.

ACTION: Institution of investigation and scheduling of public hearing.

EFFECTIVE DATE: January 10, 2002.

SUMMARY: Following receipt of a request on December 21, 2001, from the Committee on Ways and Means of the U.S. House of Representatives, the Commission instituted investigation No. 332-435, Tools, Dies, and Industrial Molds: Competitive Conditions in the United States and Selected Foreign Markets, under section 332(g) of the Tariff Act of 1930 (19 U.S.C. 1332(g)).

FOR FURTHER INFORMATION CONTACT: Information specific to this investigation may be obtained from Dennis Fravel, Project Leader (202-205-3404; fravel@usitc.gov) or Harry Lenchitz, Deputy Project Leader (202-205-2737; lenchitz@usitc.gov), Office of Industries, U.S. International Trade Commission, Washington, DC, 20436. For information on the legal aspects of this investigation, contact William Gearhart of the Office of the General Counsel (202-205-3091; wgearhart@usitc.gov). Hearing impaired individuals are advised that information on this matter can be obtained by contacting the TDD terminal on (202) 205-1810.

Background

As requested by the Committee, the Commission will provide information, to the extent possible, for the most recent five-year period regarding the following:

1. A profile of the U.S. tool, die, and industrial mold industries.

2. Changes in marketing and manufacturing processes, and trends in U.S. production, consumption, and trade.

3. A global market overview and assessment of foreign markets and significant foreign industries, including those in China, Taiwan, Japan, Canada, Mexico, and European Union member countries.

4. A comparison of the strengths and weaknesses of U.S. and foreign producers regarding factors of competition such as production costs, labor costs, availability of skilled/experienced labor force, level of technology in the design and manufacturing process, availability of capital, transportation costs, pricing, product quality and after-sales service, and government programs assisting these industries.

5. The principal challenges and potential implications for the industries over the near term. As requested by the Committee, the Commission plans to submit its report to the Committee by October 21, 2002.

Public Hearing

A public hearing in connection with the investigation will be held at the U.S. International Trade Commission Building, 500 E Street SW., Washington, DC, beginning at 9:30 a.m. on May 21, 2002. All persons shall have the right to appear, by counsel or in person, to present information, and to be heard. Requests to appear at the public hearing should be filed with the Secretary, United States International Trade Commission, 500 E Street SW., Washington, DC 20436, no later than 5:15 p.m., May 7, 2002. Any prehearing briefs (original and 14 copies) should be filed not later than 5:15 p.m., May 9, 2002; the deadline for filing post-hearing briefs or statements is 5:15 p.m., May 30, 2002. In the event that, as of the close of business on May 7, 2002, no witnesses are scheduled to appear at the hearing, the hearing will be canceled. Any person interested in attending the hearing as an observer or non-participant may call the Secretary to the Commission (202-205-1806) after May 7, 2002, to determine whether the hearing will be held.

Written Submissions

In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of § 201.6 of the Commission's rules of practice and procedure (19 CFR 201.6). All written submissions, except for confidential business information, will be made available in the Office of the Secretary to the Commission for inspection by interested parties. To be assured of consideration by the Commission, written statements relating to the Commission's report should be submitted to the Commission at the earliest practical date and should be received no later than the close of business on May 30, 2002. All submissions should be addressed to the Secretary, United States International Trade Commission, 500 E Street SW., Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects

Tools, dies, industrial molds, competitiveness, and imports.

Issued: January 11, 2002.
By order of the Commission.
Marilyn R. Abbott,
Acting Secretary.

[FR Doc. 02-1123 Filed 1-15-02; 8:45 am]

BILLING CODE 7020-02-P